COMMODITY FUTURES TRADING COMMISSION

17 CFR Part 23

RIN 3038-AC97

Margin Requirements for Uncleared Swaps for Swap Dealers and Major Swap Participants

AGENCY: Commodity Futures Trading Commission.

ACTION: Extension of comment period.

SUMMARY: On April 28, 2011, the Commodity Futures Trading Commission (“Commission” or “CFTC”) published in the Federal Register a notice of proposed rulemaking that would establish initial and variation margin requirements for swap dealers (SDs) and major swap participants (MSPs). Elsewhere today in the Federal Register, the Commission is proposing to adopt capital, financial reporting, and recordkeeping requirements for these same entities, as well as proposing to amend certain capital requirements for futures commission merchants (FCMs) that also register as SDs or MSPs and supplemental capital requirements, and supplemental financial reporting requirements for these FCMs. The Commission now is extending the comment period for the proposed margin regulations so that the comment period will run concurrently with the comment period for the proposed rulemaking on capital requirements being published today.

DATES: Comments must be received on or before July 11, 2011.

ADDRESSES: You may submit comments, identified by RIN 3038-AC97, and Margin Requirements for Uncleared Swaps for Swap Dealers and Major Swap Participants by any of the following methods:

• Agency Web site, via its Comments Online process at http://comments.cftc.gov. Follow the instructions for submitting comments through the Web site.

• Mail: Send to David A. Stawick, Secretary, Commodity Futures Trading Commission, Three Lafayette Centre, 1155 21st Street, NW., Washington, DC 20581.

• Hand Delivery/Courier: Same as mail above.

• Federal eRulemaking Portal: http://www.regulations.gov. Follow the instructions for submitting comments.

Please submit your comments using only one method. Additionally, to ease the burden to commenters, you may submit comments that address both the capital and the margin rulemakings to only one of the respective public comment files and they will be considered by the Commission in both rulemakings, if appropriate to both.

All comments must be submitted in English, or if not, accompanied by an English translation. Comments will be posted as received to http://www.cftc.gov. You should submit only information that you wish to make available publicly. If you wish the Commission to consider information that may be exempt from disclosure under the Freedom of Information Act, a petition for confidential treatment of the exempt information may be submitted according to the established procedures in § 145.9 of the Commission's regulation, 17 CFR 145.9.

The Commission reserves the right, but shall have no obligation, to review, pre-screen, filter, redact, refuse or remove any or all of your submission from http://www.cftc.gov that it may deem to be inappropriate for publication, such as obscene language. All submissions that have been redacted or removed that contain comments on the merits of the rulemaking will be retained in the public comment file and will be considered as required under the Administrative Procedure Act and other applicable laws, and may be accessible under the Freedom of Information Act.

FOR FURTHER INFORMATION CONTACT: John C. Lawton, Deputy Director, Thomas Smith, Deputy Director, or Thelma Diaz, Associate Director, Division of Clearing and Intermediary Oversight, 1155 21st Street, NW., Washington, DC 20581. Telephone number: 202-418-5480 and electronic mail: jlawton@cftc.gov; tsmith@cftc.gov; or tdiaz@cftc.gov.

SUPPLEMENTARY INFORMATION: On April 28, 2011 the Commission published in the Federal Register a notice of proposed rulemaking that would establish initial and variation margin requirements for swap dealers (SDs) and major swap participants (MSPs). Elsewhere today in the Federal Register, the Commission is proposing to adopt capital, financial reporting, and recordkeeping requirements for SDs and MSPs, as well as proposing to amend certain capital requirements for futures commission merchants (FCMs) that also register as SDs or MSPs, as well as supplemental financial reporting requirements for these FCMs.

Because the proposed capital and margin rulemakings are interrelated, the Commission now is extending the comment period for the proposed margin regulations so that the comment periods of each proposed rulemaking will run concurrently. The extension period will provide commenters with a full opportunity to review each of the proposed rulemakings together before commenting on either. As noted above, the Commission additionally has determined to give full consideration to all comments on each of the proposed rulemakings, whether comment letters that address both rulemakings are submitted to the comment file of the capital or the margin rulemaking.

Issued in Washington, DC, this 27th day of April 2010, by the Commission.
David A. Stawick,
Secretary of the Commission.

Note: The following appendices will not appear in the Code of Federal Regulations.

Appendices to Margin Requirements for Uncleared Swaps for Swap Dealers and Major Swap Participants; Extension of Comment Period—Commission Voting Summary and Statements of Commissioners

Appendix 1—Commission Voting Summary

On this matter, Chairman Gensler and Commissioners Dunn, Sommers, Chilton and O'Malia voted in the affirmative; no Commissioner voted in the negative.

[FR Doc. 2011-10880 Filed 5-11-11; 8:45 am]

BILLING CODE 6351-01-P